DEPARTMENT OF TRANSPORTATION

Federal Aviation Administration

14 CFR Part 39

[Docket No. FAA-2018-0049; Product Identifier 2017-CE-031-AD]

RIN 2120-AA64

Airworthiness Directives; Textron Aviation Inc. Airplanes

AGENCY: Federal Aviation Administration (FAA), DOT.

ACTION: Supplemental notice of proposed rulemaking (SNPRM); reopening of comment period.

SUMMARY: The FAA is revising an earlier proposal for certain Textron Aviation Inc. (Textron) Model 172N, 172P, 172Q, 172RG, F172N, F172P, FR172K, R172K, 182E, 182F, 182G, 182H, 182J, 182K, 182L, 182M, 182N, 182P, 182Q, 182R, T182, F182P, F182Q, F182RG, R182, TR182, 206, P206/TP206, U206/TU206, 207/T207, 210-5 (205), 210-5A (205A), 210B, 210C, 210D, 210E, 210F, and T210F airplanes. This action revises the notice of proposed rulemaking (NPRM) by modifying the estimated costs of the proposed AD, the repetitive inspection intervals, and the credit allowed for previous actions; clarifying the inspection instructions for airplanes with the service kit installed; correcting the contact information for obtaining the service information; and adding a reporting requirement to collect the inspection results. The FAA is proposing this airworthiness directive (AD) to address the unsafe condition on these products. Since these actions would impose an additional burden over those in the NPRM based on comments from commenters, the FAA is reopening the comment period to allow the public the chance to comment on these changes.

DATES: The comment period for the NPRM published in the Federal Register on February 1, 2018 (83 FR 4605), is reopened.

The FAA must receive comments on this SNPRM by July 13, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this SNPRM, contact Textron Aviation Inc., Textron Aviation Customer Service, One Cessna Blvd., Wichita, Kansas 67215; telephone: (316) 517-5800; email: customercare@txtav.com; internet: https://support.cessna.com. You may review this referenced service information at the FAA, Airworthiness Products Section, Operational Safety Branch, 901 Locust, Kansas City, Missouri 64106. For information on the availability of this material at the FAA, call (816) 329-4148.

Examining the AD Docket

You may examine the AD docket on the internet at https://www.regulations.gov by searching for and locating Docket No. FAA-2018-0049; or in person at Docket Operations between 9 a.m. and 5 p.m., Monday through Friday, except Federal holidays. The AD docket contains this SNPRM, any comments received, and other information. The street address for Docket Operations is listed above. Comments will be available in the AD docket shortly after receipt.

FOR FURTHER INFORMATION CONTACT: Bobbie Kroetch, Aerospace Engineer, Wichita ACO Branch, 1801 Airport Road, Room 100, Wichita, Kansas 67209; telephone: (316) 946-4155; fax: (316) 946-4107; email: bobbie.kroetch@faa.gov or Wichita-COS@faa.gov.

SUPPLEMENTARY INFORMATION:

Comments Invited

The FAA invites you to send any written relevant data, views, or arguments about this proposal. Send your comments to an address listed under the ADDRESSES section. Include “Docket No. FAA-2018-0049; Product Identifier 2017-CE-031-AD” at the beginning of your comments. The FAA specifically invites comments on the overall regulatory, economic, environmental, and energy aspects of this SNPRM. The FAA will consider all comments received by the closing date and may amend this SNPRM because of those comments.

The FAA will post all comments, without change, to https://www.regulations.gov, including any personal information you provide. The FAA will also post a report summarizing each substantive verbal contact received about this SNPRM.

Discussion

The FAA issued an NPRM to amend 14 CFR part 39 by adding an AD that would apply to certain Textron (type certificate previously held by Cessna Aircraft Company) Model 172N, 172P, 172Q, 172RG, F172N, F172P, FR172K, R172K, 182E, 182F, 182G, 182H, 182J, 182K, 182L, 182M, 182N, 182P, 182Q, 182R, T182, F182P, F182Q, F182RG, R182, TR182, 206, P206/TP206, U206/TU206, 207/T207, 210-5 (205), 210-5A (205A), 210B, 210C, 210D, 210E, 210F, and T210F airplanes. The NPRM published in the Federal Register on February 1, 2018 (83 FR 4605). The NPRM was prompted by a report from an operator of one of the affected Textron airplanes that cracks were found in the lower area of the forward cabin doorpost bulkhead. The NPRM proposed to require repetitively inspecting the lower area of the forward cabin doorposts at the strut attach fitting for cracks and repairing any cracks found by modifying the area with the applicable service kit.

Comments

The FAA gave the public the opportunity to comment on the NPRM. The following presents the comments received on the NPRM and the FAA's response to each comment.

Request To Withdraw the NPRM

Matt Gunsch stated that cracking at the location identified in the NPRM was not observed while performing annual inspections on hundreds of Cessna airplanes as a mechanic with an Inspection Authorization. The commenter explained that these inspections were on airplanes from the Model 172A to the newest restart airplane, with some flown as little as 25 hours a year to others that were flown l,000 hours a year, all with no evidence of cracking at this location. The FAA infers the commenter would like to see the NPRM withdrawn.

The FAA disagrees. The FAA's investigation revealed more than four dozen similar cracks on Textron Model 100- and 200-series airplanes. The FAA has not changed this proposed AD based on this comment.

Requests To Change the Repetitive Inspection Compliance Intervals

Mark Stephenson, Ronald Welch, the Aircraft Owners and Pilots Association (AOPA), Kermit Bunde, Matt Gunsch, Howard Nelson, and an anonymous commenter requested the FAA change the compliance time for the repetitive inspection intervals to hours TIS only and remove the 12-month calendar time inspection requirement. Neal Bachman suggested the compliance time be based on take off and landing cycles. Most of these commenters stated the cracking identified in the proposed AD was attributed to metal fatigue, which is driven by usage, not calendar time. Several commenters noted that an annual repetitive inspection adds an unnecessary burden for operators of low-use airplanes that may accumulate less than 1,000 hours TIS per year. The anonymous commenter stated that a repetitive inspection every 12 months was unjustified and unsupported because the FAA did not include in the AD docket crack-propagation math models or show raw data indicating the number of airplanes with cracks, their associated TIS, or the crack lengths.

Craig Morton requested the FAA change the multiple compliance time interval from “whichever occurs first” to “whichever occurs later.”

David Scott requested that the FAA increase the repetitive interval depending on airplane configuration.

The FAA partially agrees. The FAA did not provide the data requested by the anonymous commenter because the raw data relied upon by the FAA in its risk analysis did not include crack lengths. The FAA agrees to revise the calendar time requirement because a repetitive inspection annually does not account for low use airplanes. The FAA has adjusted the proposed repetitive inspection interval from 12 months or 1,000 hours TIS to 36 calendar months or 1,000 hours TIS. The FAA has determined this extended compliance time adequately addresses the identified unsafe condition. In addition, this compliance time corresponds with the manufacturer's guidance, for certain airplanes, that is published in supplemental inspection documents (SIDs) and is supported by the fleet history. The FAA disagrees with providing an allowance for takeoff and landing cycles because there is insufficient data to support inspection intervals based on this aspect of an airplane's usage. Also, FAA regulations do not require all operators to maintain records of landing and takeoff cycles. The FAA also disagrees with the requests to base the inspection solely on flight hours and to increase the inspection interval. In developing appropriate compliance times for this proposed AD, the FAA considered the urgency associated with the subject unsafe condition, the manufacturer's recommended compliance times, the availability of parts, and the practical aspect of accomplishing the required inspection and any on-condition actions. In light of these factors, the FAA determined the proposed compliance times are appropriate and address the identified unsafe condition.

Request To Decrease the Initial Inspection Compliance Time

An anonymous commenter suggested the FAA require the initial inspection before 4,000 hours TIS. The commenter stated that cracking might occur in airplanes before the 4,000 hours TIS identified in the proposed AD.

The FAA partially agrees. The FAA agrees that unverified reports indicate cracking may occur before an airplane accumulates 4,000 hours TIS. However, the FAA disagrees with reducing the compliance time for the initial inspection at this time because the data available from the manufacturer and from the FAA service difficulty reporting system does not contain sufficient information to justify it. The FAA has added a reporting requirement to the proposed AD to help the FAA collect more data to determine if the cracking is occurring at an earlier period. The FAA will analyze the reporting results and may take further rulemaking action.

Requests To Clarify the Repetitive Inspection Instructions

Two commenters requested the FAA clarify the repetitive inspection instructions for airplanes that have a service kit installed. Adam Ondrajka noted it is more difficult to do the inspection after installation of the service kit because it covers some of the area susceptible to cracking. Hageland Aviation Services, Inc. (Hageland Aviation) requested the proposed AD be revised to include verbiage that allows the inspection to be performed with the service kit remaining in place, and inspecting for any cracking that has propagated past the boundaries of the kit. This commenter also stated that the term “to the fullest extent” in the repetitive inspection instructions for airplanes with a service kit installed is unclear and could be interpreted to require removal of the kit to complete the inspection.

The FAA agrees. The FAA has changed the proposed inspection language to clarify the service kit should not be removed during the inspections and to inspect for cracks extending beyond the modified parts.

Requests Regarding the Service Kits

AOPA requested the FAA allow the installation of the service kit to terminate the repetitive inspection requirements of the proposed AD. AOPA and Adam Ondrajka noted that installation of the kit is terminating action in Cessna Mandatory Service Bulletins SEB 93-5R1 and SEB 95-19, and the FAA did not provide justification or reasoning in the NPRM for continuing the repetitive inspections after installation of the kit.

Neal Bachman requested the FAA encourage the installation of the service kit preemptively to prevent future cracking, and stated that if ongoing inspections are required after the service kit is installed then the kit is inadequate.

The FAA partially agrees. Owners may voluntarily install the service kit, as neither the NPRM nor this SNPRM would prohibit the installation of the service kit prior to observed cracking. The structure added by the service kit reinforces the critical area on which cracking has been found. However, the manufacturer did not provide sufficient evidence that installation of the service kits corrects the unsafe condition and therefore warrants discontinuing the inspections. In addition, the FAA has received unconfirmed reports of cracking extending beyond the repair doubler that is installed as part of the kit. At this time, sufficient information is not available to determine the cause of the continued cracking. Therefore, the FAA has added a reporting requirement to this SNPRM to evaluate the crack development.

Comment Regarding Variable Time Limit for Kit Installation

Mark Stephenson requested the FAA change the compliance time for installing the service kit after crack detection to a variable compliance time based on the size, number, or severity of the identified cracking. The commenter noted that the proposed AD specifies installing the service kit before further flight if cracks are found, while at the same time specifying a 1,000-hour repeat inspection of the area if no cracks are found. The commenter stated that therefore the FAA is accepting that flight with cracks is acceptable for periods approaching 1,000 hours and concluded the logic for the requirement to incorporate the service kit before further flight is flawed.

The FAA disagrees. There is insufficient data on crack growth rate to support flight with known cracks without installation of the service kit. Therefore, this proposed AD would not allow variable compliance times based on the size, number, or severity of the identified cracking. The installation of the service kit reinforces the cracked area. The FAA has not changed this SNPRM based on this comment.

Concern for Parts Availability

Urban Moore, Hageland Aviation, Bruce Thomas, and Paul Gryko expressed concern that the proposed AD may ground airplanes after cracks are identified because of the unavailability of parts. The commenters indicated that waiting times for some of the service kits were several months.

The FAA recognizes the demand for the service kits following the issuance of the proposed AD is likely to increase. However, the FAA has determined that the proposed actions and compliance times are necessary to address the identified unsafe condition. The FAA has not changed this proposed AD based on this comment. However, operators may request approval of an alternative method of compliance (AMOC) to extend the compliance times under the provisions of paragraph (m) of this proposed AD. The operator must justify in the request that an extension of the compliance time will provide an adequate level of safety.

Request for Specific Part Numbers

Urban Moore noted that Textron would not provide the specific part numbers for each item included in the service kits.

The FAA disagrees. The applicable service kits identify the part numbers required for the kit installation. The FAA will post in the AD docket all service documents incorporated by reference when the FAA issues the final rule. Until then, and as specified in the ADDRESSES section of the NPRM and this SNPRM, interested parties may contact Textron for a copy of the service information identified in this SNPRM. A party may also view the service information in person at the FAA's offices in Kansas City, Missouri.

Request To Include the Possibility of Extended Cracks

Textron suggested the FAA change the language in the proposed AD to reflect that cracks could extend beyond the doublers installed in accordance with the service kits, if an operator installed a service kit before the AD was released.

The FAA agrees. The FAA has added language to paragraphs (g) and (h)(2) of this proposed AD to address potential cracking on airplanes with the service kits installed.

Request To Make Service Information Available

Matt Gunsch commented about the difficulty obtaining the service bulletins that are the basis of the proposed AD and requested the FAA include the referenced service documents in the AD Docket.

The FAA partially agrees. The FAA will post in the AD docket all service documents incorporated by reference when the FAA issues the final rule. Until then, and as specified in the ADDRESSES section of the NPRM and this SNPRM, interested parties may contact Textron for a copy of the service information identified in this SNPRM. A party may also view the service information in person at the FAA's offices in Kansas City, Missouri.

Request To Update Service Information

Textron requested the FAA update references to the service bulletin and service kit information in the proposed AD to reflect the latest revision levels.

The FAA agrees. The FAA has updated the service information in this proposed AD accordingly.

Request To Provide Credit for Airplanes With SK206-42 or SK206-42A Installed

Textron requested the FAA clarify the credit in paragraph (k)(3) of the proposed AD for Model 207 and T207 airplanes that have installed a service kit in accordance with Cessna Single Engine Service Bulletin SEB 93-5, dated March 26, 1993. Specifically, Textron asked whether owners/operators are expected to remove the kit and install a new kit.

The FAA agrees to clarify the credit for Model 207 and T207 airplanes. The FAA has revised paragraph (k)(3) of the NPRM and redesignated it as paragraph (k)(2)(i) in this SNPRM. As now proposed, paragraph (k)(2)(i) specifies that the reinforcement detailed in Cessna Single Engine Service Kit SK207-19A, dated May 29, 2019, must be done to receive credit for previous installations. As specified in Cessna Single Engine Service Kit SK207-19A, dated May 29, 2019, the reinforcement can be done on airplanes with a previously installed SK206-42() kit.

Request To Allow Credit for Previous Actions

Hageland Aviation, Jason Vink, Stephen Greenwood, Adam Ondrajka, AOPA, Textron, and an anonymous commenter requested the FAA allow credit for initial inspections and service kit installations in accordance with Cessna Service Bulletins SEB 93-5, SEB 93-5 Revision l, and SEB 95-19. Hageland Aviation stated that failing to give credit could affect intrastate aviation within the state of Alaska. Adam Ondrajka stated that paragraphs (k)(1)(v) and (k)(3) of the proposed AD include contradictory language for previous repairs completed on Model 207 and T207 airplanes. Textron and an anonymous commenter requested credit for inspections that have been previously completed.

The FAA partially agrees. Paragraph (f), “Compliance,” of both the NPRM and this SNPRM states compliance is required “unless already done,” which allows credit for any AD action completed before the effective date of the AD.

The FAA has revised paragraphs (k)(1) and (2) of this SNPRM to provide credit for most airplane models that have installed the service kit using Cessna Single Engine Service Bulletin SEB 93-5, dated March 26, 1993; or Cessna Single Engine Service Bulletin SEB 93-5, Revision 1, dated September 8, 1995. The FAA has also revised paragraph (k)(3) (redesignated as paragraph (k)(2)(i) in this SNPRM) to allow credit for Model 207, T207, 207A, and T207A airplanes that have installed the service kit if additional reinforcement has also been done.

The FAA disagrees that the language in paragraphs (k)(1)(v) and (k)(3) of the NPRM is contradictory. Paragraph (k)(1)(v) of the NPRM applies only to the inspection, while paragraph (k)(3) of the NPRM applies to the repair. Similarly, paragraph (k)(1) of this SNPRM applies only to the inspection, while paragraph (k)(2) of this SNPRM applies to the repair.

The FAA acknowledges Hageland Aviation's comment that intrastate aviation within the state of Alaska will be affected if credit is not given. The FAA has revised paragraph (k) of this SNPRM to provide credit for most airplane models that have installed the service kit. Additionally, paragraph (f), “Compliance,” of both the NPRM and the SNPRM states compliance is required “unless already done,” which allows credit for any AD action completed before the effective date of the AD. Therefore, the FAA is giving credit for previous actions.

Requests To Change the Costs of Compliance

AOPA, Urban Moore, Duane Taylor, Ely Cyrus, Hageland Aviation, Stephen Greenwood, Neal Bachman, Howard Nelson, an anonymous commenter, Paul Gryko, and Richard James requested the FAA update the costs of the service kits. These commenters stated the estimated costs in the NPRM for the installation of the service kits did not represent the current costs of the kits. The commenters also expressed concern that Textron was increasing the prices of the service kits.

The FAA agrees. The FAA has revised the estimated cost of the service kits to account for the known costs.

Urban Moore requested the FAA increase the number of labor hours estimated to complete the repair.

The FAA agrees. The FAA has increased the estimated work-hours to install the service kits from 24 work-hours to 36 work-hours.

An anonymous commenter stated the labor rate of $85 per work-hour is out of date.

The FAA disagrees. The FAA Office of Aviation Policy and Plans provides the labor rate of $85 per work-hour to use when estimating the labor costs of complying with AD requirements.

An anonymous commenter stated the estimated cost in the NPRM should be doubled to account for the cost to repair the doorposts for both wing struts.

The FAA disagrees. The estimated costs in both the NPRM and this SNPRM already account for repairs on both sides of the airplane.

Request To Correct the Language in the Cost of Compliance for Affected Products

An anonymous commenter noted an error in the estimated costs and stated that the Cost of Compliance section incorrectly refers to 2,928 engines instead of the correct number of airplanes.

The FAA disagrees. The Cost of Compliance section in the NPRM estimates that the proposed AD would affect 14,653 airplanes of U.S. registry; it does not refer to the number of affected engines. The FAA has not changed this proposed AD based on this comment.

Request To Change the Manufacturer Contact Information

Textron requested the FAA change the internet contact information for contacting the manufacturer to https://support.cessna.com.

The FAA agrees. The FAA has updated the contact information accordingly.

Request for Docket Correction

Stephen Greenwood noted that in the NPRM the docket number is incorrectly listed as FAA-2017-0049 instead of FAA-2018-0049. The FAA infers that the commenter is requesting that the FAA correct the docket number.

The FAA agrees. The FAA published a proposed rule; correction because of the docket number error in the NPRM on February 13, 2018 (83 FR 6136). This SNPRM references the correct docket number.

Request To Extend the Comment Period

Howard Nelson stated that after the proposed AD is updated with the correct costs for the repair kit, the FAA should extend the comment period.

The FAA agrees. The FAA has updated the estimated cost of the repair service kit and has made other changes that increase the burden on the operators. Therefore, the FAA is issuing this SNPRM to allow further comment on these changes.

Other Differences Between the NPRM and This SNPRM

Table 1 to paragraph (c) of this SNPRM contains changes to some of the model designations listed in the applicability in order to match the models as they are listed in the type certificate data sheet. Where the NPRM referred to “P206/TP206,” “U206/TU206,” and “207/T207,” series of airplanes, this SNPRM identifies the following model designations: P206, P206A, P206B, P206C, P206D, P206E, TP206A, TP206B, TP206C, TP206D, TP206E, U206, U206A, U206B, U206C, U206D, U206E, U206F, U206G, TU206A, TU206B, TU206C, TU206D, TU206E, TU206F, TU206G, 207, 207A, T207, and T207A.

The Model “F182RG” listed in Table 1 to paragraph (c) of the NPRM was based on the model designation specified in the service information. Table 1 to paragraph (c) of this SNPRM lists “Model FR182,” which is the correct model designation as it is listed in the type certificate data sheet for that model.

This SNPRM also clarifies the affected serial numbers listed in table 1 to paragraph (c) of the NPRM. Where the table to paragraph (c) of this SNPRM identifies an affected serial number range that includes all eligible serial numbers for a given model, the FAA has instead specified “All serial numbers” in this SNPRM.

Related Service Information Under 1 CFR Part 51

The FAA reviewed Cessna Single Engine Service Bulletin SEB 95-19, dated December 29, 1995 (SEB 95-19); and Cessna Single Engine Service Bulletin SEB 93-5, Revision 2, dated May 29, 2019 (SEB 93-5R2). For the applicable model airplanes, the service information contains procedures for repetitively inspecting the lower area of the forward cabin doorposts for cracks and repairing any cracks found by modifying the area with an applicable Cessna service kit.

The FAA also reviewed Cessna Single Engine Service Kit SK207-19A, dated May 29, 2019. The service information contains procedures to reinforce the lower forward doorpost bulkhead and wing strut fitting by adding a doubler and a channel to each forward cabin doorpost bulkhead.

This service information is reasonably available because the interested parties have access to it through their normal course of business or by the means identified in the ADDRESSES section.

Other Related Service Information

The FAA reviewed Cessna Single Engine Service Kit SK172-147, dated December 29, 1995. This service kit provides instructions to add a channel to each forward cabin doorpost bulkhead. The FAA also reviewed Cessna Single Engine Service Kit SK182-115, dated December 29, 1995; Cessna Single Engine Service Kit SK206-42D, dated May 29, 2019; and Cessna Single Engine Service Kit SK210-156, dated December 29, 1995. For the applicable model airplanes, these service kits provide instructions to add a doubler and a channel to each forward cabin doorpost bulkhead.

FAA's Determination

The FAA is proposing this AD because the FAA evaluated all the relevant information and determined the unsafe condition described previously is likely to exist or develop in other products of the same type design. Certain changes described above expand the scope of the NPRM. As a result, the FAA has determined that it is necessary to reopen the comment period to provide additional opportunity for the public to comment on this SNPRM.

Proposed Requirements of This SNPRM

This SNPRM would require repetitively inspecting the lower area of the forward cabin doorposts for cracks and repairing any cracks found by modifying the area with the applicable Cessna service kit.

Costs of Compliance

The FAA estimates that this proposed AD would affect 14,653 airplanes of U.S. registry.

The FAA estimates the following costs to comply with this proposed AD:

Estimated Costs
Action | Labor cost | Parts cost | Cost per product | Cost on U.S. operators
Inspect the lower area of the forward cabin doorposts for cracks | 1.5 work-hours × $85 per hour = $127.50 | Not applicable | $127.50 | $1,868,257.50
Reporting requirement | 1 work-hour × $85 per hour = $85 | Not applicable | 85 | 1,245,505

The FAA estimates the following costs to do any necessary repairs that would be required based on the results of the proposed inspection. Reference the applicable Cessna single engine service bulletin for kit applicability. The FAA has no way of determining the number of airplanes that might need this repair:

On-Condition Costs
Action | Labor cost | Parts cost | Cost per product
Install Cessna Single-Engine Service Kit SK172-147 | 36 work-hours × $85 per hour = $3,060 | $3,415 | $6,475
Install Cessna Single-Engine Service Kit SK182-115 | 36 work-hours × 85 per hour = 3,060 | 7,490 | 10,550
Install Cessna Single-Engine Service Kit SK206-42D | 36 work-hours × 85 per hour = 3,060 | 3,115 | 6,175
Install Cessna Single-Engine Service Kit SK207-19A | 36 work-hours × 85 per hour = 3,060 | 4,957 | 8,017
Install Cessna Single-Engine Service Kit SK210-156 | 36 work-hours × 85 per hour = 3,060 | 7,020 | 10,080

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, section 44701: General requirements. Under that section, Congress charges the FAA with promoting safe flight of civil airplanes in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Textron Aviation Inc.: Docket No. FAA-2018-0049; Product Identifier 2017-CE-031-AD.

(a) Comments Due Date

The FAA must receive comments by July 13, 2020.

(b) Affected ADs

None.

(c) Applicability

This AD applies to the following Textron Aviation Inc. (type certificate previously held by Cessna Aircraft Company) model airplanes, certificated in any category:

Table 1 to Paragraph (c)—Affected Models and Serial Numbers
Model | Serial Nos.
172N | 17272885 through 17274009 inclusive.
172P | All serial numbers.
172Q | 17275869, 17275927 through 17275934 inclusive, 17275952, 17275959, 17275960, 17275962, 17275964, 17275965, 17275967, 17275968, 17275969, 17275971, 17275992, 17275999, 17276002, 17276005, 17276029, 17276032, 17276042, 17276045, 17276051, 17276052, 17276054, 17276101, 17276109, 17276140, 17276147, 17276188, and 17276211.
172RG | All serial numbers.
F172N | F17201910 through F17202039 inclusive.
F172P | All serial numbers.
FR172K | FR17200656 through FR17200675 inclusive.
R172K | R1723200 through R1723454 inclusive.
182E | All serial numbers.
182F | All serial numbers.
182G | All serial numbers.
182H | All serial numbers.
182J | All serial numbers.
182K | All serial numbers.
182L | All serial numbers.
182M | All serial numbers.
182N | All serial numbers.
182P | All serial numbers.
182Q | All serial numbers.
182R | All serial numbers.
T182 | All serial numbers.
F182P | All serial numbers.
F182Q | All serial numbers.
FR182 | All serial numbers.
R182 | R18200002 through R18200583 inclusive.
R182 and TR182 | R18200001 and R18200584 through R18202039 inclusive.
206 | All serial numbers.
P206, P206A, P206B, P206C, P206D, P206E, TP206A, TP206B, TP206C, TP206D, and TP206E | All serial numbers.
U206, U206A, U206B, U206C, U206D, U206E, U206F, U206G, TU206A, TU206B, TU206C, TU206D, TU206E, TU206F, and TU206G | All serial numbers.
207, 207A, T207, and T207A | All serial numbers.
210-5 (205) | All serial numbers.
210-5A (205A) | All serial numbers.
210B | All serial numbers.
210C | All serial numbers.
210D | All serial numbers.
210E | All serial numbers.
210F | All serial numbers.
T210F | All serial numbers.

(d) Subject

Joint Aircraft System Component (JASC)/Air Transport Association (ATA) of America Code 53, Fuselage.

(e) Unsafe Condition

This AD was prompted by a report of cracks found in the lower area of the forward cabin doorpost bulkhead. The FAA is issuing this AD to detect and address cracking of the wing strut attach point. The unsafe condition, if not addressed, could result in failure of the wing in operation, which could result in loss of control of the airplane.

(f) Compliance

Comply with this AD within the compliance times specified, unless already done.

(g) Initial Inspections

(1) For airplanes without a lower forward doorpost bulkhead and wing strut fitting reinforcement service kit (service kit) installed in accordance with Cessna Single Engine Service Bulletin SEB95-19, dated December 29, 1995 (SEB95-19), or Cessna Single Engine Service Bulletin SEB93-5, Revision 2, dated May 29, 2019 (SEB93-5R2): At the applicable compliance time specified in paragraph (g)(1)(i) or (ii) of this AD, do a visual inspection of the lower forward doorpost at the strut attach fitting for cracks in accordance with steps 1.A., 1.B., 1.C., and 1.B. (the step following step 1.C.) of the Accomplishment Instructions in SEB95-19; or steps 1.A. and 1.B. of the Accomplishment Instructions in SEB93-5R2; as applicable to your model airplane.

(i) For airplanes that have accumulated less than 4,000 hours time-in-service (TIS) as of the effective date of this AD: Initially inspect prior to the accumulation of 4,000 hours TIS or within the next 200 hours TIS after the effective date of this AD, whichever occurs later.

(ii) For airplanes that have accumulated 4,000 or more hours TIS as of the effective date of this AD: Initially inspect within 200 hours TIS after the effective date of this AD or within 12 calendar months after the effective date of this AD, whichever occurs first.

(2) For airplanes with a service kit installed in accordance with SEB95-19 or SEB93-5R2: At the later of the times specified in paragraphs (g)(2)(i) and (ii) of this AD, do a visual inspection of the lower forward doorpost at the strut attach fitting for cracks in accordance with steps 1.A., 1.B., 1.C., and 1.B. (the step following step 1.C.) of the Accomplishment Instructions in SEB95-19; or steps 1.A. and 1.B. of the Accomplishment Instructions in SEB93-5R2; as applicable to your model airplane. Do not remove the installed service kit; instead, inspect for cracking that extends beyond the modified parts.

(i) At the applicable time specified in paragraph (g)(1)(i) or (ii) of this AD.

(ii) Within 1,000 hours TIS or 36 calendar months, whichever occurs first, since installing the service kit.

(h) Repetitive Inspections

(1) If no cracks are found during the initial inspection required by paragraph (g)(1) or (2) of this AD, thereafter repeat the inspection at intervals not to exceed 36 calendar months or 1,000 hours TIS, whichever occurs first from the last inspection, as long as no cracks are found.

(2) If cracks are found during any inspection required by paragraph (g)(1) or (h)(1) of this AD, do the inspection specified in paragraph (g)(2) of this AD within 36 calendar months or 1,000 hours TIS, whichever occurs first after installing the service kit required by paragraph (i)(1) of this AD. Thereafter, repeat the inspection at intervals not to exceed 36 calendar months or 1,000 hours TIS, whichever occurs first from the last inspection, as long as no additional cracks are found.

(i) Corrective Actions

(1) If cracks are found during any inspection required by paragraph (g)(1) or paragraph (h)(1) of this AD, before further flight, install a service kit in accordance with step 1.D. of the Accomplishment Instructions in SEB95-19; or step 1.C. of the Accomplishment Instructions in SEB93-5R2; as applicable to your model airplane.

(2) If cracks are found during any inspection required by paragraph (g)(2) or (h)(2) of this AD, before further flight, repair the area using a method approved by the Manager, Wichita ACO Branch, FAA. For a repair method to be approved by the Manager, Wichita ACO Branch as required by this paragraph, the Manager's approval letter must specifically refer to this AD. You may use the contact information in paragraph (n)(1) of this AD to obtain FAA approval of your repair method.

(j) Reporting Requirement

Within 30 days after the effective date of this AD, or within 30 days after completing the initial inspection required by paragraph (g) of this AD, whichever occurs later, report the findings of the initial inspection (regardless if cracks were found or not) to the FAA at Wichita-COS@faa.gov. Thereafter, within 30 days after completing each repetitive inspection required by paragraph (h) of this AD, if any crack was found, report the crack findings to the FAA at Wichita-COS@faa.gov. Include in your reports the following information:

(1) Name and address of the owner;

(2) Date of the inspection;

(3) Name, address, telephone number, and email address of the person submitting the report;

(4) Airplane serial number and total hours TIS on the airplane at the time of the inspection; and

(5) If any crack was found during the inspection, provide detailed crack information as specified below:

(i) A sketch or picture detailing the crack location;

(ii) Measured length of the crack(s) found;

(iii) Installation of a Cessna service kit or any other kit or repair before the inspection; and

(iv) Installation of any supplemental type certificates (STCs), alterations, repairs, or field approvals affecting the area of concern or affecting gross weight.

(k) Credit for Previous Actions

(1) You may take credit for the initial inspection required by paragraph (g) of this AD if you performed the inspection before the effective date of this AD using Cessna Single Engine Service Bulletin SEB93-5, dated March 26, 1993; or Cessna Single Engine Service Bulletin SEB93-5, Revision 1, dated September 8, 1995.

(2) You may take credit for the installation required by paragraph (i)(1) of this AD as follows.

(i) For Model 207, T207, 207A, and T207A airplanes with a service kit installed using SK206-42, SK206-42A, SK206-42B, or SK206-42C: You may take credit for the installation if done before the effective date of this AD using Cessna Single Engine Service Bulletin SEB93-5, dated March 26, 1993, or Cessna Single Engine Service Bulletin SEB93-5, Revision 1, dated September 8, 1995; if the reinforcement of the lower forward doorpost bulkhead and wing strut fitting specified in Cessna Single Engine Service Kit SK207-19A, dated May 29, 2019, is also accomplished within 200 hours TIS after the effective date of this AD.

(ii) For all other models: You may take credit for the installation if done before the effective date of this AD using Cessna Single Engine Service Bulletin SEB 93-5, dated March 26, 1993; or Cessna Single Engine Service Bulletin SEB 93-5, Revision 1, dated September 8, 1995.

(l) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(m) Alternative Methods of Compliance (AMOCs)

(1) The Manager, Wichita ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (n)(1) of this AD.

(2) Before using any approved AMOC, notify your appropriate principal inspector, or lacking a principal inspector, the manager of the local flight standards district office/certificate holding district office.

(n) Related Information

(1) For more information about this AD, contact Bobbie Kroetch, Aerospace Engineer, Wichita ACO Branch, 1801 Airport Road, Room 100, Wichita, Kansas 67209; telephone: (316) 946-4155; fax: (316) 946-4107; email: bobbie.kroetch@faa.gov or Wichita-COS@faa.gov.

(2) For service information identified in this AD, contact Textron Aviation Inc., Textron Aviation Customer Service, One Cessna Blvd., Wichita, Kansas 67215; telephone: (316) 517-5800; email: customercare@txtav.com; internet: https://support.cessna.com. You may review this referenced service information at the FAA, Airworthiness Products Section, Operational Safety Branch, 901 Locust, Kansas City, Missouri 64106. For information on the availability of this material at the FAA, call (816) 329-4148.

Issued on May 21, 2020.
Gaetano A. Sciortino,
Deputy Director for Strategic Initiatives, Compliance & Airworthiness Division, Aircraft Certification Service.

[FR Doc. 2020-11340 Filed 5-28-20; 8:45 am]

BILLING CODE 4910-13-P